DEPARTMENT OF TRANSPORTATION

Surface Transportation Board

[STB Finance Docket No. 34149]

Stillwater Central Railroad, Inc.—Acquisition Exemption—The Burlington Northern and Santa Fe Railway Company

Stillwater Central Railroad, Inc. (SCRR), a Class III rail carrier, has filed a verified notice of exemption under 49 CFR 1150.41 to acquire from The Burlington Northern and Santa Fe Railway Company and operate approximately 119.73 miles of rail line between milepost 549, at Wheatland, OK, and milepost 668.73, at Long, OK.

The transaction was scheduled to be consummated on or shortly after December 28, 2001.

If the notice contains false or misleading information, the exemption is void ab initio. Petitions to revoke the exemption under 49 U.S.C. 10502(d) may be filed at any time. The filing of a petition to revoke does not automatically stay the transaction.

An original and 10 copies of all pleadings, referring to STB Finance Docket No. 34149, must be filed with the Surface Transportation Board, Office of the Secretary, Case Control Unit, 1925 K Street, NW., Washington, DC 20423-0001. In addition, a copy of each pleading must be served on Karl Morell, Esq., BALL JANIK LLP, 1455 F Street, NW., Suite 225, Washington, DC 20005.

Board decisions and notices are available on our website at www.stb.dot.gov.

Decided: January 4, 2002.
By the Board, David M. Konschnik, Director, Office of Proceedings.
Vernon A. Williams,
Secretary.

[FR Doc. 02-766 Filed 1-15-02; 8:45 am]

BILLING CODE 4915-00-P